COMMITTEE FOR PURCHASE FROM PEOPLE WHO ARE BLIND OR SEVERELY DISABLED

Procurement List; Additions And Deletion

AGENCY: Committee for Purchase From People Who Are Blind or Severely Disabled.

ACTION: Additions to and Deletion from the Procurement List.

SUMMARY: This action adds products to the Procurement List that will be furnished by nonprofit agencies employing persons who are blind or have other severe disabilities, and deletes a service from the Procurement List previously furnished by such agencies.

DATES: Effective Date: 7/28/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/2/2014 (78 FR No. 85) and 5/23/2014 (79 FR No. 100), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 4510-00-NIB-0113—Clean-Up Kit, Body Fluid Spill and Splatter, Surface Decontamination

NPA: Envision, Inc., Wichita, KS

Contracting Activity: Defense Logistics Agency, DLA TROOP SUPPORT, Philadelphia, PA

Coverage: C-List for 100% of the requirement of the Department of Defense, as aggregated by the Defense Logistics Agency Troop Support, Philadelphia, PA

NSN: MR 1189—Drying Mat, Microfiber, Holiday Themed

NPA: New York City Industries for the Blind, Inc., Brooklyn, NY

NSN: MR 1194—Bottle, Water, Reusable, 26oz

NPA: Industries for the Blind, Inc., West Allis, WI

Contracting Activity: Military Resale-Defense Commissary Agency, Fort Lee, VA

Coverage: C-List for the requirements of military commissaries and exchanges as aggregated by the Defense Commissary Agency.

NSN: 7520-00-NIB-2194—Pen, Ergonomic, Low Viscosity Ink, Retractable, Wide body, Black, 1mm

NSN: 7520-00-NIB-2196—Pen, Ergonomic, Low Viscosity Ink, Retractable, Wide body, Blue, 1mm

NPA: Industries for the Blind, Inc., West Allis, WI

Contracting Activity: FEDERAL ACQUISITION SERVICE, GSA/FSS OFC SUP CTR—PAPER PRODUCTS, New York, NY

Coverage: A-List for the Total Government Requirement as aggregated by the General Services Administration.

Deletions

On 5/16/2014 (79 FR No. 95), the Committee for Purchase From People Who Are Blind or Severely Disabled published notice of proposed deletions from the Procurement List.

After consideration of the relevant matter presented, the Committee has determined that the service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service to the Government.

3. There are no known regulatory alternatives which would accomplish the objectives of the Javits-Wagner-O'Day Act (41 U.S.C. 8501-8506) in connection with the service deleted from the Procurement List.

End of Certification

Accordingly, the following service is deleted from the Procurement List:

Service

Service Type/Location: Janitorial/Custodial, Social Security Administration Building, 612 N. Church Street, Rockford, IL.

NPA: OMNI Business Services, Inc., Rockford, IL.

Contracting Activity: GENERAL SERVICES ADMINISTRATION, FPDS AGENCY COORDINATOR, Washington DC.

Patricia Briscoe,
Deputy Director, Business Operations, Pricing and Information Management.

[FR Doc. 2014-15049 Filed 6-26-14; 8:45 am]

BILLING CODE 6353-01-P